DEPARTMENT OF DEFENSE

Office of Secretary

[Docket ID: DoD-2008-OS-0074]

Privacy Act of 1974; Systems of Records

AGENCY: Defense Finance and Accounting Service, DoD.

ACTION: Notice to Add a New System of Records.

SUMMARY: The Defense Finance and Accounting Service (DFAS) is proposing to add a system of records notice to its inventory of record systems subject to the Privacy Act of 1974 (5 U.S.C. 552a), as amended.

DATES: This action will be effective without further notice on July 24, 2008 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on June 13, 2008, to the House Committee on Government on Oversight and Reform, the Senate Committee on Governmental Affairs, and the Office of Management and Budget (OMB) pursuant to paragraph 4c of Appendix I to OMB Circular No. A-130, ‘Federal Agency Responsibilities for Maintaining Records About Individuals,’ dated December 12, 2000, 65 FR 239.

Dated: June 18, 2008.
Patricia Toppings,
OSD Federal Register Liaison Officer, Department of Defense.

T-7206

System name:

Non-appropriated Funds Central Payroll System (NAFCPS).

System location:

Defense Information Systems Agency, Defense Enterprise Computing Center, Ogden, 7879 Wardleigh Road, Hill Air Force Base, Utah 84058-5997.

Defense Finance and Accounting Service, DFAS-Texarkana, PO BOX 611, Texarkana, Texas 75505-6111.

Categories of individuals covered by the system:

Department of Defense (DoD) Non-appropriated fund civilian employees in the following agencies: Department of the Army, National Security Agency (NSA), the Defense Logistics Agency (DLA) and Defense Finance and Accounting Service-Texarkana.

Categories of records in the system:

Individual's name, Social Security Number (SSN) and information concerning individual records of appointment or assignment; official authenticated time and attendance records, individual leave records, information on employee's federal, state and local tax withholding and allotments.

Authority for maintenance of the system:

5 U.S.C. 301, Departmental Regulations; Department of Defense Financial Management Regulation (DoDFMR) 7000.14-R Vol. 4; 5 U.S.C. Sections 2105c, 5531, and 5533; and E.O. 9397 (SSN).

Purpose(s):

A system for maintaining and tracking pay of U.S. Army, Department of Defense and National Security Agency non-appropriated funds civilian employees. The system will calculate the net pay due each employee; provide a history of pay transaction, entitlements and deductions; maintain a record of leave accrued and taken; keep a schedule of bonds due and issued; record taxes paid; and respond to inquiries or claims.

Routine uses of records maintained in the system, including categories of users and the purposes of such uses:

In addition to those disclosures generally permitted under 5 U.S.C. 552a (b) of the Privacy Act, these records or information contained therein may specifically be disclosed outside the DOD as a routine use pursuant to 5 U.S.C. 552a(b)(3) as follows:

The DoD ‘Blanket Routine Uses’ published at the beginning of the DoD compilation of systems of records notices apply to this system.

Policies and practices for storing, retrieving, accessing, retaining, and disposing of records in the system:

Storage:

Electronic storage media.

Retrievability:

Individual's name and Social Security Number (SSN).

Safeguards:

Records are maintained in a controlled facility. Physical entry is restricted by the use of locks, guards, and is accessible only to authorized personnel. Access to records is limited to person(s) responsible for servicing the record in performance of their official duties and who are properly screened and cleared for a need-to-know. Access to computerized data is restricted by passwords, which are changed according to agency security policy.

Retention and disposal:

Records may be temporary in nature and deleted when actions are completed, superseded, obsolete, or no longer needed. Other records may be cut off at the end of the payroll year, and then destroyed after 56 years. Records are destroyed by degaussing the electronic media and recycling hardcopy records. The recycled hardcopies are destroyed by shredding, burning, or pulping.

System manager(s) and address:

Defense Finance and Accounting Service (DFAS), Indianapolis, Systems Management Directorate, 8899 E 56th Street, Indianapolis, IN 46249-1056.

Notification procedure:

Individuals seeking to determine whether information about themselves is contained in this system of records should address written inquiries to the Defense Finance and Accounting Service, Freedom of Information/Privacy Act Program Manager, Corporate Communications and Legislative Liaison, 6760 E. Irvington Place, Denver, CO 80279-8000.

Individuals should furnish full name, Social Security Number (SSN), current address, telephone number, and provide a reasonable description of what they are seeking.

Record access procedures:

Individuals seeking access to information about them contained in this system of records should address written inquiries to Defense Finance and Accounting Service, Freedom of Information/Privacy Act Program Manager, Corporate Communications and Legislative Liaison, 6760 E. Irvington Place, Denver, CO 80279-8000.

Individuals should furnish full name, Social Security Number (SSN), current address, telephone number and provide a reasonable description of what they are seeking.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From the individual concerned, DoD Components, National Security Agency and other Federal agencies.

Exemptions claimed for the system:

None.

[FR Doc. E8-14206 Filed 6-23-08; 8:45 am]

BILLING CODE 5001-06-P